DEPARTMENT OF HOMELAND SECURITY

Federal Emergency Management Agency

[Docket ID FEMA-2017-0002; Internal Agency Docket No. FEMA-B-1709]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before August 17, 2017.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1709, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: April 25, 2017.
Roy E. Wright,
Deputy Associate Administrator for Insurance and Mitigation, Department of Homeland Security, Federal Emergency Management Agency.

I. Watershed-based studies:

Community | Community map repository address
Boeuf Watershed
Maps Available for Inspection Online at: http://www.fema.gov/preliminaryfloodhazarddata
Franklin Parish, Louisiana and Incorporated Areas
City of Winnsboro | City Hall, Mayor's Office, 3814 Front Street, Winnsboro, LA 71295.
Town of Wisner | Mayor's Office, 9530 Natchez Street, Wisner, LA 71378.
Unincorporated Areas of Franklin Parish | Franklin Parish, Court House, Police Jury Office, 6558 Main Street, Winnsboro, LA 71295.
Village of Baskin | Mayor's Office, 1325 Highway 15, Baskin, LA 71219.
Village of Gilbert | Mayor's Office, 7564 Gilbert Street, Gilbert, LA 71336.
Lower Cumberland Watershed
Maps Available for Inspection Online at: http://www.fema.gov/preliminaryfloodhazarddata
Caldwell County, Kentucky and Incorporated Areas
City of Fredonia | City Hall, 312 Cassidy Avenue, Fredonia, KY 42411.
City of Princeton | City Hall, 206 East Market Street, Princeton, KY 42445.
Unincorporated Areas of Caldwell County | Caldwell County Courthouse, 100 East Market Street, Princeton, KY 42445.
Christian County, Kentucky and Incorporated Areas
City of Hopkinsville | Christian County Community Development Services, 710 South Main Street, Hopkinsville, KY 42240.
Unincorporated Areas of Christian County | Christian County Community Development Services, 710 South Main Street, Hopkinsville, KY 42240.
Crittenden County, Kentucky and Incorporated Areas
Unincorporated Areas of Crittenden County | Crittenden County Courthouse, Clerk's Office, 107 South Main Street, Suite 203, Marion, KY 42064.
Livingston County, Kentucky and Incorporated Areas
City of Smithland | City Hall, 310 Wilson Avenue, Smithland, KY 42081.
Unincorporated Areas of Livingston County | Livingston County Offices and Library, 321 Court Street, Smithland, KY 42081.
Trigg County, Kentucky and Incorporated Areas
City of Cadiz | City Hall, 63 Main Street, Cadiz, KY 42211.
Unincorporated Areas of Trigg County | Trigg County Courthouse Annex, 38 Main Street, Suite 101, Cadiz, KY 42211.
Santa Fe Watershed
Maps Available for Inspection Online at: http://www.fema.gov/preliminaryfloodhazarddata
Alachua County, Florida and Incorporated Areas
City of Alachua | City Hall, 15100 Northwest 142nd Terrace, Alachua, FL 32615.
City of Gainesville | Public Works Department, 405 Northwest 39th Avenue, Gainesville, FL 32609.
City of Waldo | City Hall, 14655 Kennard Street, Waldo, FL 32694.
Unincorporated Areas of Alachua County | Alachua County Public Works Department, Engineering and Operations, 5620 Northwest 120th Lane, Gainesville, FL 32653.
Bradford County, Florida and Incorporated Areas
City of Starke | City Clerk's Office, 209 North Thompson Street, Starke, FL 32091.
Unincorporated Areas of Bradford County | Bradford County Building and Zoning Department, 945F North Temple Avenue, Starke, FL 32091.
Union County, Florida and Incorporated Areas
City of Lake Butler | City Hall, 200 Southwest 1st Street, Lake Butler, FL 32054.
Town of Worthington Springs | Community Center, 11933 Southwest 36th Drive, Worthington Springs, FL 32054.
Unincorporated Areas of Union County | Union County Building Department, 15277 Southwest 84th Street, Lake Butler, FL 32054.
Upper Suwannee Watershed
Maps Available for Inspection Online at: http://www.fema.gov/preliminaryfloodhazarddata
Columbia County, Florida and Incorporated Areas
City of Lake City | City Hall, 205 North Marion Avenue, Lake City, FL 32055.
Unincorporated Areas of Columbia County | Columbia County Public Works Department, 607 Northwest Quinten Street, Lake City, FL 32055.

II. Non-watershed-based studies:

Community | Community map repository address
Pulaski County, Arkansas and Incorporated Areas
Maps Available for Inspection Online at: http://www.fema.gov/preliminaryfloodhazarddata
Project: 16-06-3876S Preliminary Date: November 30, 2016
City of Jacksonville | City Hall, 1 Municipal Drive, Jacksonville, AR 72076.
City of Little Rock | Public Works Administration Building, 701 West Markham Street, Little Rock, AR 72201.
Unincorporated Areas of Pulaski County | Pulaski County Public Works, 3200 Brown Street, Little Rock, AR 72204.
Arapahoe County, Colorado and Incorporated Areas
Maps Available for Inspection Online at: http://www.fema.gov/preliminaryfloodhazarddata
Project: 14-08-1281S Preliminary Date: June 30, 2016 and October 4, 2016
City of Aurora | Public Works Department, 15151 East Alameda Parkway, Suite 3200, Aurora, CO 80012.
City of Centennial | Southeast Metro Stormwater Authority, 7437 South Fairplay Street, Centennial, CO 80112.
City of Glendale | City of Glendale Clerk, 950 South Birch Street, Glendale, CO 80246.
City of Littleton | Public Works Department, 2255 West Berry Avenue, Littleton, CO 80120.
Unincorporated Areas of Arapahoe County | Arapahoe County Department of Public Works and Development, 6924 South Lima Street, Centennial, CO 80112.
City and County of Denver, Colorado
Maps Available for Inspection Online at: http://www.fema.gov/preliminaryfloodhazarddata
Project: 14-08-1281S Preliminary Date: June 30, 2016 and October 4, 2016
City and County of Denver | Public Works Department, 201 West Colfax Avenue, Department 507, Denver, CO 80202.
Douglas County, Colorado and Incorporated Areas
Maps Available for Inspection Online at: http://www.fema.gov/preliminaryfloodhazarddata
Project: 14-08-1281S Preliminary Date: June 30, 2016
City of Lone Tree | Public Works Department, 9222 Teddy Lane, Lone Tree, CO 80124.
Town of Parker | Town Hall, 20120 East Mainstreet, Parker, CO 80138.
Unincorporated Areas of Douglas County | Douglas County Department of Public Works Engineering, 100 3rd Street, Castle Rock, CO 80104.
St. Johns County, Florida and Incorporated Areas
Maps Available for Inspection Online at: http://www.fema.gov/preliminaryfloodhazarddata
Project: 11-04-1762S Preliminary Date: May 16, 2016
City of St. Augustine | City Hall, Planning and Building Department, 75 King Street, St. Augustine, FL 32084.
City of St. Augustine Beach | City Hall, Building Department, 2200 A1A South, St. Augustine Beach, FL 32080.
Town of Hastings | HHS Community Building, 6195 South Main Street, Suite A, Hastings, FL 32145.
Unincorporated Areas of St. Johns County | St. Johns County Permit Center, 4040 Lewis Speedway, St. Augustine, FL 32084.
Assumption Parish, Louisiana and Incorporated Areas
Maps Available for Inspection Online at: http://www.fema.gov/preliminaryfloodhazarddata
Project: 16-06-0712S Preliminary Date: November 30, 2016
Town of Napoleonville | City Hall, 4813 Highway 1, 1st Floor, Napoleonville, LA 70390.
Unincorporated Areas of Assumption Parish | Assumption Parish Office of Homeland Security and Emergency Preparedness, 105 Dr. Martin Luther King Drive, Napoleonville, LA 70390.
West Carroll Parish, Louisiana and Incorporated Areas
Maps Available for Inspection Online at: http://www.fema.gov/preliminaryfloodhazarddata
Project: 12-06-0898S Preliminary Date: September 29, 2016
Town of Oak Grove | Town Hall, 407 East Main Street, Oak Grove, LA 71263.
Unincorporated Areas of West Carroll Parish | West Carroll Parish Office of Homeland Security and Emergency Preparedness, 310 Skinner Lane, Oak Grove, LA 71263.
Village of Epps | Epps Town Hall, 120 Maple Street, Epps, LA 71237.
Village of Forest | Forest Community Center, 137 Walnut Street, Forest, LA 71242.
Village of Kilbourne | Village Hall, 125 Carnell Street, Kilbourne, LA 71253.
Village of Pioneer | Village Hall, 318 Cherry Street, Pioneer, LA 71266.
Butler County, Pennsylvania (All Jurisdictions)
Maps Available for Inspection Online at: http://www.fema.gov/preliminaryfloodhazarddata
Project: 06-03-A623S Preliminary Date: March 12, 2010 and October 15, 2015
Borough of Saxonburg | Borough Office, 420 West Main Street, Saxonburg, PA 16056.
Brown County, Texas and Incorporated Areas
Maps Available for Inspection Online at: http://www.fema.gov/preliminaryfloodhazarddata
Project: 16-06-0793S Preliminary Date: August 26, 2015 and September 30, 2016
City of Brownwood | Engineering Office, 501 Center Avenue, Brownwood, TX 76804.
City of Early | City Hall, 960 Early Boulevard, Early, TX 76802.
Unincorporated Areas of Brown County | Brown County Building Inspector's Office, 200 South Broadway Street, Suite 322, Brownwood, TX 76801.
Calhoun County, Texas and Incorporated Areas
Maps Available for Inspection Online at: http://www.fema.gov/preliminaryfloodhazarddata
Project: 15-06-0621S Preliminary Date: June 17, 2016
Unincorporated Areas of Calhoun County | Calhoun County Courthouse, 211 South Ann Street, Port Lavaca, TX 77979.

[FR Doc. 2017-10180 Filed 5-18-17; 8:45 am]

BILLING CODE 9110-12-P